DEPARTMENT OF ENERGY

Federal Energy Regulatory Commission

[Docket No. RP18-441-000]

Midwestern Gas Transmission Company; Notice of Initiation of Section 5 Proceeding

On March 15, 2018, the Commission issued an order in Docket No. RP18-441-000, pursuant to section 5 of the Natural Gas Act, 15 U.S.C. 717d (2012), instituting an investigation into the justness and reasonableness of Midwestern Gas Transmission Company's (Midwestern) currently effective tariff rates. The Commission's order directs Midwestern to file a full cost and revenue study within 75 days of the issuance of the order. Midwestern Gas Transmission Company, 162 FERC 61,219 (2018).

Any interested person desiring to be heard in Docket No. RP18-441-000 must file a notice of intervention or motion to intervene, as appropriate, with the Federal Energy Regulatory Commission, 888 First Street NE, Washington, DC 20426, in accordance with Rule 214 of the Commission's Rules of Practice and Procedure, 18 CFR 385.214, within 30 days of the date of issuance of the order.

Dated: March 15, 2018.
Nathaniel J. Davis, Sr.,
Deputy Secretary.

[FR Doc. 2018-05678 Filed 3-20-18; 8:45 am]

BILLING CODE 6717-01-P